FEDERAL ELECTION COMMISSION

Sunshine Act Meeting

Date and Time: Thursday, October 25, 2007, at 10 a.m.

Place: 999 E Street, NW., Washington, DC (Ninth Floor).

Status: This meeting will be open to the public.

Items to be Discussed:

Correction and Approval of Minutes.

Draft Advisory Opinion 2007-20: XM Satellite Radio, Inc., by counsel, John C. Keeney, Jr.

Notice of Proposed Rulemaking for Bundled Contributions.

Management and Administrative Matters.

Person to Contact for Information: Mr. Robert Biersack, Press Officer, Telephone: (202) 694-1220.

Mary W. Dove,
Secretary of the Commission.

[FR Doc. 07-5209 Filed 10-17-07; 3:21 pm]

BILLING CODE 6715-01-M